ENVIRONMENTAL PROTECTION AGENCY

[OPP-2002-0182; FRL-7193-5]

Guidance for Developing and Performing Quality Control of Water Modeling Standard Scenarios and Standard Scenario Metadata Files; Notice of Availability

AGENCY: Environmental Protection Agency (EPA).

ACTION: Notice.

SUMMARY: EPA is soliciting comments on two documents, “PRZM Field and Orchard Crop Scenario Metadata” and “Standard Procedures for Conducting Quality Control and Quality Assurance for Pesticide Root Zone Model (PRZM) Field and Orchard Crop Scenarios.” Interested parties may request a copy of the draft proposed procedures and scenario documentation as a set in Unit I.B. of this notice. The PRZM Field and Orchard Crop Scenario Metadata documents the crop-specific parameters (specific value used and its reference) which are key elements of the exposure scenario used to determine surface water concentrations in ecological and drinking water assessments. Standard Procedures for Conducting Quality Control and Quality Assurance for PRZM Field and Orchard Crop Scenarios provides a defined set of steps (methods of selecting or estimating specific scenario values and available references) to develop and/or ensure the quality of a crop scenario. Both documents provide a transparent description of each environmental modeling scenario and the procedures used to create them while providing consistent and reproducible products.

DATES: Comments, identified by docket ID number OPP-2002-0182, must be received on or before October 21, 2002.

ADDRESSES: Comments may be submitted by mail, electronically, or in person. Please follow the detailed instructions for each method as provided in Unit I. of the SUPPLEMENTARY INFORMATION. To ensure proper receipt by EPA, it is imperative that you identify docket ID number OPP-2002-0182 in the subject line on the first page of your response.

FOR FURTHER INFORMATION CONTACT: Sid Abel, Environmental Fate and Effects Division (7507C), Office of Pesticide Programs, Environmental Protection Agency, 1200 Pennsylvania Ave., NW., Washington, DC 20460; telephone number: (703) 305-7346; fax number: (703) 305-6309; e-mail address: abel.sid@epa.gov.

SUPPLEMENTARY INFORMATION:

I. General Information

A. Does this Action Apply to Me?

This action is directed to the public in general. This action may, however, be of interest to those who are or may be conducting surface water modeling assessments on behalf of pesticide registration, risk assessments or those who may be involved in developing information directly related to data necessary to develop a modeling scenario. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of these documents, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about Standard Procedures for Conducting Quality Control and Quality Assurance for Pesticide Root Zone Model (PRZM) Field and Orchard Crop Scenarios and PRZM Field and Orchard Crop Scenario Metadata, go directly to the Home Page for the Office of Pesticide Programs at: http://www.epa.gov/oppefed1/models/water/op_scenario_metadata_df_061602.htm and http://www.epa.gov/oppefed1/models/water/qa_qc_documentation_ver2 .htm

2. By mail. You may obtain copies of these documents, and certain other related documents that might be available by contacting the person listed under FOR FURTHER INFORMATION CONTACT.

C. How and to Whom Do I Submit Comments?

You may submit comments through the mail, in person, or electronically. To ensure proper receipt by EPA, it is imperative that you identify docket ID number OPP-2002-0182 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described in this unit. Do not submit any information electronically that you consider to be CBI. Avoid the use of special characters and any form of encryption. Electronic submissions will be accepted in WordPerfect 6.1/8.0 or ASCII file format. All comments in electronic form must be identified by docket ID number OPP-2002-0182. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. What Action is the Agency Taking?

The Agency is seeking comment on two documents that describe how EPA develops and uses pesticide surface water modeling scenarios in ecological and drinking water exposure and risk assessments. These documents are entitled “Pesticide Root Zone Model (PRZM) Field and Orchard Crop Scenario Metadata” and “Standard Procedures for Conducting Quality Control and Quality Assurance for PRZM Field and Orchard Crop Scenarios” and can be found at the following web addresses: http://www.epa.gov/oppefed1/models/water/op_scenario_metadata_df_061602.htm and http://www.epa.gov/oppefed1/models/water/qa_qc_documentation_ver2 .htm

Modeling scenarios are defined as the set of characteristics of the agricultural crop to which a pesticide may be applied (e.g., cotton) and the field information on which the crop is actually grown (e.g., soils) that are necessary to estimate pesticide transport to surface water. The modeling sites, or scenarios, the OPP uses to estimate environmental concentrations in surface water are documented in and developed through the use of these documents.

These documents were developed to support the following activities: OP Cumulative Risk Assessment, the Agency's Information Quality Guideline, data quality guidelines and to improve environmental assessments.

The first document, “PRZM Field and Orchard Crop Scenario Metadata,” provides a detailed listing of the parameters and associated values specific to a crop and field combination (e.g., a cotton field in Yazoo County, Mississippi). OPP evaluated several approaches to documenting the parameters from a modeling scenario used to estimate environmental exposures. This format is believed to provide the most appropriate means to readily document and recall critical information contained in a given scenario. Users of this format, whether Agency staff or the public, will be able to quickly document a scenario in a consistent manner that meets quality standards implemented by the OPP. In addition, users who retrieve information or wish to understand the content of a crop-field scenario for a pesticide assessment will be assured of a standardized format which simplifies review. Information in this document reflects the results of the second document “Standard Procedures for Conducting Quality Control and Quality Assurance for PRZM Field and Orchard Crop Scenarios.”

Standard Procedures for Conducting Quality Control and Quality Assurance for PRZM Field and Orchard Crop Scenarios describes the set of procedures, methods, and references to “construct” or review for consistency the information contained in a crop-field scenario. The steps and recommendation described in this guidance provide a sound scientific basis for selecting information with relevance to what is observed in an actual agricultural field such as cotton. The methodology is intended to give the regulated community, decision-makers and the public confidence that assessments resulting from the use of scenarios representing an agricultural field reflect conditions that are likely to occur in the “real world.” Numerous methods and sources of credible scientific information are given in this document and are considered readily available to the public through voice contact, public information sources (e.g., public libraries) or the world wide web. The Agency has identified and described as best possible information to support this guidance and seeks comments on what additional information would help improve modeling scenarios.

List of Subjects

Environmental protection, Environmental modeling, Pesticide Root Zone Model, PRZM, Surface water exposure, Pesticides, Crops, Modeling Guidance.

Dated: August 5, 2002.
Sidney Abel, III,
Chief, Environmental Risk Branch I, Office of Pesticide Programs.

[FR Doc. 02-20874 Filed 8-20-02; 8:45 am]

BILLING CODE 6560-50-S